ENVIRONMENTAL PROTECTION AGENCY

[FRL OP-OFA-170]

Environmental Impact Statements; Notice of Availability

Responsible Agency: Office of Federal Activities, General Information 202-564-5632 or https://www.epa.gov/nepa.

Weekly receipt of Environmental Impact Statements (EIS)

Filed March 10, 2025 10 a.m. EST Through March 17, 2025 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20250031, Draft, STB, TX, Green Eagle Railroad, Comment Period Ends: 05/05/2025, Contact: Andrea Elizabeth Poole 202-245-0305.

EIS No. 20250032, Draft, USFS, WY, Grand Targhee Master Development Plan Projects, Comment Period Ends: 06/20/2025, Contact: Jay Pence 208-354-2312.

Dated: March 17, 2025.
Nancy Abrams,
Associate Director, Office of Federal Activities.

[FR Doc. 2025-04859 Filed 3-20-25; 8:45 am]

BILLING CODE 6560-50-P